FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Transactions Granted Early Termination
Trans No. and acquiring | Acquired | Entities
JAN. 18, 2000
20000877—Brian L. Roberts | Mr. H.F. Lenfest | Lenfest Communications, Inc.
20000878—Brian L. Roberts | AT&T Corp | Lenfest Communications, Inc.
20001218—E.I du Pont de Nemours and Company | Burmah Castrol plc | Castrol Indsutrial North America, Inc.
JAN. 19, 2000
20001217—Burman Castrol plc | E.I. du Pont de Nemours and Company | E.I. du Pont de Nemours and Company.
20001268—Safeguard International Fund, L.P | Golden Bear Oil Specialties, Inc | Golden Bear Oil Specialties, Inc.
20001297—Tenet Healthcare Corporation | Tendex, Inc | Tendex, Inc.
20001303—Centre Capital Investors III, L.P | Kjell Inge Rokke | American Seafoods Company. Frionor U.S.A., Inc. Resource Group International, Inc.
20001305—Centre Capital Investors Ill, L.P | Jaeger Investment Company | NJ Vessel Corporation.
20001352—Gerald Gorman | Netmoves Corporation | Netmoves Corporation.
20001355—The AES Corporation | The AES Corporation | BV Partners.
20001371—Kirtland Capital Partners III L.P | Donald and Barbara Battis | Accurate Fabricators, Inc. Profile Realty, Inc., Profile Metal Forming, Inc. S&H Precision Manufacturing Co., Inc., Profile, Inc.
20001372—Global Crossing Ltd | StorageNetworks, Inc | StorageNetworks, Inc.
20001373—Dell Computer Corporation | StorageNetworks, Inc | StorageNetworks, Inc.
20001387—Ralcorp Holdings, Inc | Cascade Acquisition, Inc | Cascade Acquisition, Inc.
JAN. 20, 2000
20001266—Office Specialties, Inc. d/b/a/ INSCAPE | SMED International Inc | SMED International Inc.
20001378—Thomas H. Lee Foreign Fund IV-B, L.P | MJD Communications, Inc | MJD Communications, Inc.
20001383—Thomas H. Lee Equity Fund IV, L.P | MJD Communications, Inc | MJD Communications, Inc.
JAN. 21, 2000
20001231—Bristol-Myers-Squibb Company | OXiGENE, Inc | OXiGENE, Europe, AB.
20001286—PPG Industries, Inc | The Monarch Paint Company | Monarch Paint Company I, Ltd.
20001306—SOFTBANK Corp. | Law.com, Inc | Law.com, Inc.
20001357—Nortel Networks Corporation | Qtera Corporation | Qtera Corporation.
JAN. 24, 2000
20001255—SunGard Data Systems Inc | Michael J. & Marianne Cassidy | Cassidy Jones & Co., Inc.
20001256—Consolidated Electrical Distributors, Inc | Dauphin Associates, Inc. Employee Stock Ownership Plan | Dauphin Associates, Inc.
20001260—El Paso Energy Corporation | MCN Energy Group, Inc | MCNIC CSG Pipeline Company
20001307—The Associates First Capital Corporation | KeyCorp | Key Bank USA, N.A.
20001334—CheckFree Holdings Corporation | BlueGill Technologies, Inc | BlueGill Technologies, Inc.
20001359—Bill Gross' idealab!, Inc | GoTo.com, Inc | GoTo.com, Inc.
20001362—Qwest Communications International Inc | USInternetworking, Inc | USInternetworking, Inc.
20001364—Qwest Communications International Inc | Global Crossing Ltd | Global Crossing Ltd.
20001376—WPG Corporate Development Associates V, LLC* | Leonard N. Stern | City Pages, Inc Cleveland Free Times, Inc. Long Island Voice, Inc.
|  | Los Angeles Weekly, Inc.
|  | OC Weekly, Inc.
|  | Quickfish Media, Inc.
|  | Stern Publishing, Inc.
|  | VV Publishing Corporation.
20001381—Isle of Capri Casinos, Inc | Lady Luck Gaming Corporation | Lady Luck Gaming Corporation.
20001384—Corporacion Patricio Echeverria, S.A | Ingersoll-Rand Company | The Corona Clipper Division Clipper of Harrow Products, Inc.
20001388—NOVA Corporation | Frank L. Farrar | First Savings Bank Merchant Division, Inc.
20001430—Drugstore.com, Inc | Roger Barnett | Beauty.com, Inc.
20001431—Roger Barnett | Drugstore.com, Inc | Drugstore.com, Inc.
JAN. 27, 2000
20001304—BYOWC Partners LLC | Bridgeport Holdings Inc | Bridgeport Holdings Inc.
20001316—FS Equity Partners IV, L.P | Bridgeport Holdings Inc | Bridgeport Holdings Inc.
20001348—Blackstone CCC Capital Partners L.P | Sirius Satellite Radio Inc | Sirius Satellite Radio Inc.
20001379—Interpublic Group of Companies, Inc (The) | NFO Worldwide, Inc | NFO Worldwide, Inc.
20001389—BCI Growth V, L.P | ATG Group, Inc | ATG Group, Inc.
20001395—Warren A. Hood, Jr | Owens Corning | Falcon Foam Corporation.
20001396—Clayton, Dublier & Rice Fund VI L.P | Carl A. Albert | Fairchild Aerospace Corporation.
20001399—Merrill Lynch & Co., Inc | Multex.com, Inc | Multex.com, Inc.
20001406—WellPoint Health Networks Inc | Rush-Presbyterian-St. Luke's Medical Center | Rush Prudential Health Plans.
20001407—WellPoint Health Networks Inc | The Prudential Insurance Company of America | Rush Prudential Health Plans.
20001409—Churchill Environmental & Industrial Equity Partners, L.P | Allied Waste Industries, Inc | Browning-Ferris Industries of Hawaii/Maui Disposal Co., Inc. Maui Disposal Co., Inc.
20001411—L-3 Communications Holdings, Inc | Raytheon Company | AMI Instruments, Inc. Raytheon Company.
20001416—Amercian Standard Companies, Inc | Howell E. Adams, Jr | Georgia Air Conditioning Company, Inc.
20001417—United Rentals, Inc | Ronald D. Offutt | RDO Rental Co.
20001418—Mohr, Davidow Ventures, IV, L.P | ChannelPoint, Inc | ChannelPoint, Inc.
20001419—Landmark Communications, Inc | David Altomare | Brento Coporation
20001420—Cox Enterprises, Inc | David Altomare | Brento Corporation.
20001424—CMGI, Inc | Raging Bull, Inc | Raging Bull, Inc.
20001428—Knight Transportation, Inc | John R. Fayard | John Fayard Fast Freight, Inc.
20001429—Willis Stein & Partners II, L.P | SOFTBANK Corp | ZD Inc.
20001432—Whittman-Hart, Inc | USWeb Corporation | USWeb Corporation, a Delaware corporation.
20001435—Green Equity Investors III, L.P | InterDent, Inc | InterDent, Inc.
20001438—Magellan Health Services, Inc | Vivra Holdings, Inc | Vivra, Inc.
20001442—Heritage Fund II, L.P | Gerald Yablans | P.O.P. Displays, Inc.
20001443—Mr. Robert Alpert | Castle Harian Parnters III, L.P | LNS Holding Corp.
20001445—Deutsche Bank AG | Richard L. Gelb | The Charter Corporation.
20001446—Deutsche Bank AG | Bruce S. Gelb | The Charter Corporation.
20001450—Expro International Group PLC | TriPoint, Incorporated | Tri Point, Incorporated.
20001460—Gilat Communications Ltd | The Times Mirror Company | Allen Communication.
20001464—Career Education Corporation | California Culinary Academy, Inc | California Culinary Academy, Inc.
20001468—Mazda Motor Corporation | Transnational Motors, Inc | Transnational Motors, Inc.
20001474—Safeguard International Fund, L.P | Richard W. Bowen II | International Filler Corp.
20001475—Cliffstar Corporation | Northland Cranberries, Inc | Northland Cranberries, Inc.
20001479—Kleiner Perkins Caufield & Byer VIII, L.P | Redback Networks Inc | Redback Networks Inc.
20001480—KPCB VIII Founders Fund, L.P | Redback Networks Inc | Redback Networks Inc.
20001481—KPCB Information Sciences Zaibatsu Fund II, L.P | Redback Networks Inc | Redback Networks Inc.
20001482—St. Ives plc | Global Financial Press, a New York Corporation | Global Financial Press, a New York Corporation.
20001488—Thoma Cressey Fund VI, L.P | PennCorp Financial Group, Inc | Occidental Life Insurance Company of North Carolina. Pioneer Security Life Insurance Company.
20001490—Torch Acquisition Company | Oracle Corporation | Oracle Corporation.
20001492—Advance Communications Group, Inc | Richard O'Neal | Big Stuff, Inc.
20001497—MVP.com, Inc | SportsLine.com, Inc | Golf Club Trader, Inc. International Gold Outlet, Inc. TennisDirect.com, Inc.
20001498—SportsLine.com, Inc | MPV.com, Inc | MVP.com, Inc.
JAN. 28, 2000
20001393—Richard A. Bernstein | I. Epstein & Sons, Inc | I. Epstein & Sons/New York, Inc.
20001415—Bell Atlantic Master Trust | Bridgeport Holdings Inc | Bridgeport Holdings Inc.
JAN. 30, 2000
20001520—William S. Morris III and Mary Sue Ellis (husband and wife) | Mediacom Communications Corporation | Mediacom Communications Corporation.
20001521—Rocco B. Commisso | Mediacom Communications Corporation | Mediacom Communications Corporation.
JAN. 31, 2000
20001319—Healtheon/WebMD Corporation | Electronic Data Systems Corporation | Kinetra LLC.
20001408—Money's Mushrooms Ltd | Vlasic Foods International Inc | Vlasic Foods International Inc.
20001473—George G. Beasley | George G. Beasley | Beasley Reed Acquisition Partnership.
20001500—Cox Enterprises, Inc | Rapid Communications Partners, L.P | Rapid Communications Partners, L.P.
20001510—Elisabeth Badinter | Bernard and Miriam Frankel (husband and wife) | Frankel & Company.
20001511—Washington Mutual, Inc | Lehman Brothers Holdings, Inc | Alta Residential Mortgage, Inc.
20001513—Citizens Utilities Company | GTE Corporation | GTE Midwest Incorporated, GTE North Incorporated.
20001539—DICOM Group plc | Imaging Components Corporation | Imaging Components Corporation.
FEB. 1, 2000
20001382—Goodman Manufacturing Company, L.P | William H. Hegamyer | Pioneer Metals, Inc.
20001507—AT&T Corp | AT&T Corp | United Cable Television of Baltimore Limited Partnership.
20001512—Fremont Partners L.P | QualPro, Inc | QualPro, Inc.
20001517—Crosspoint Venture Partners-1999 L.P | SiteLine, Inc | SiteLine, Inc.
20001523—ASCo Group plc | Mary Lou Conrad | Venture Transport Inc.
20001524—Daniel S. Aegerter | Ariba, Inc | Ariba, Inc.
20001526—Siemens Aktiengesellschaft | Moore Products Co | Moore Products Co.
20001531—SOFTBANK Corp | AllAdvantage.com | AllAdvantage.com.
20001541—Transhumance Employee Stock Ownership Trust | Donald DeBey | Mountain Meadows Lamb Corporation.
20001542—Transhumance Employee Stock Ownership Trust | Verner W. Averch | Mountain Meadows Lamb Corporation.
20001543—Star Gas Partners, L.P | All Star Gas Corp | All Star Gas Corp.
20001545—Outsourcing Services Group, Inc | David G. Knust and Susan L. Purkrabek | K.P. Properties. Precision Packaging and Services, Inc.
20001547—Quanta Services, Inc | Dennis G. Klumb | Arby Construction, Inc.
20001548—RCBA Strategic Partners, L.P | Playtex Products, Inc | Playtex Products, Inc.
20001552—Peco Energy Company | NorthEast Optic Network, Inc | NEON Communications, Inc.
20001553—Jorge Mas | MasTec, Inc | MasTec. Inc.
20001559—Cypress Merchant Banking Partners II L.P | Hannaford Bros. Co | Home Runs.com. Inc.
20001562—Phillip Morris Companies, Inc | Boca Holdings, Inc | Boca Holdings, Inc.
20001563—Edward S. Rogers | AT&T Corp | At Home Corporation.
FEB. 2, 2000
19994747—Allied Waste Industries, Inc | James E. Galante | Advanced Recycling Corp.
|  | Advanced Waste Systems, Inc.
|  | Automated Waste Disposal, Inc.
|  | Diversified Waste Disposal, Inc.
|  | Environmental systems, Inc.
|  | Ny-Conn Waste Recylcing, Inc.
|  | Superior Waste Disposal, Inc.
20001440—Blackstone CCC Capital Partners L.P | Arunas A. Chesonis | PaeTec Corp.
20001441—Madison Dearborn Capital Parnters III, L.P | Arunas A. Chesonis | PaeTec Corp.
200011489—Odyssey Investment Partners Fund, LP | IWO Holdings, Inc | IWO Holdings, Inc.
FEB. 3, 2000
20001444—Carl C. Icahn | Prison Realty Trust, Inc | Prison Realty Trust, Inc.
20001486—Bank Austria Aktiengesellschaft | Rice partners II, L.P | Cherokee Sanford Group, LLC.
20001487—Koceram N.V | Rice Partners II, L.P | Cherokee Sanford Group, LLC.
FEB. 4, 2000
20000612—Thyssen-Bornemisza Continuity Trust | Vertex Communications Corporation | Vertex Communications Corporation.
20001397—Voest-Alpine Stahl A.G | Barlow W. Brooks, Jr | Roll Forming Corporation.
20001398—Voest-Alpine Stahl A.G | J. William Brooks | Roll Forming Corporation.
FEB. 7, 2000
20001394—MJD Communications, Inc | TPG Partners, L.P | TPG Communications, Inc.
20001400—BASF Aktiengesellschaft | Rohm and Haas Company | Morton International, Inc.
20001410—Kyocera Corporation | QUALCOMM Incorporated | QUALCOMM Incorporated.
20001421—Entravision Communications Company, L.L.C | Latin Communications Group Inc | Latin Communications Group Inc.
20001433—Emerson Electric Co | Knaack Manufacturing Company | Knaack Manufacturing Company.
20001434—MAPFRE Mutualidad | Allchurches Trust Limited | Chatham Holdings, Inc.
20001437—Federal Signal Corporation | PCS Company | PCS Company.
20001448—Telephone and Data Systems, Inc. Voting First | Southeast Telephone Company of Wisconsin, Inc | Southeast Telephone Company of Wisconsin, Inc.
20001455—Solectron Company | Alcatel | Alcatel USA Sourcing, L.P. DSC of Puerto Rico, Inc.
20001456—James N. Blue | Unicom Corporation | Cotter Corporation.
20001457—Albert J. Latner | Dr. Robert Adams | LabSouth, Inc.
20001465—SOFTBANK Corp | SmartAge Corp | SmartAge Corp.
20001469—Electronic Arts Inc | Dreamworks L.L.C | Dreamworks Interactive L.L.C.
20001472—McLeod USA Incorporated | Spiltrock Services, Inc | Splitrock Services, Inc.
20001476—VHA Southwest Community Health Corporation | Memorial Hermann Healthcare System | Baptist Hospital, Orange. Baptist Hospital of Southeast Texas.
20001491—Resurrection Health Care Corporation | The Catholic Bishop of Chicago | Catholic Charities of the Archdiocese of Chicago.
20001494—William L. Sauder | Joseph S. Palencar | M&M Sale Corp.
20001495—ReliaStar Financial Corp | The BISYS Group, Inc | BISYS Brokerage Services, Inc. BWC Investment Services, Inc.
20001499—Salton, Inc | George Foreman | George Foreman.
20001501—United News & Media plc | Carlton Communications Plc | Carlton Communications Plc.
20001502—Phillip R. Bennett | Barry J. Lind | Lind-Waldock & Company.
20001528—EarthCare Company | World Fuel Services Corp | International Petroleum Corporation.
20001589—Morgan Stanley Dean Witter & Co | Commerce One, Inc | Commerce One, Inc.
20001590—Wells Fargo & Company | Redback Networks Inc | Redback Networks, Inc.
20001591—First Reserve Fund VIII, L.P | COR-VAL, Inc | COR-VAL, Inc.
FEB. 8, 2000
20001459—Warmer Chilcott Public Limited Company | Bristol-Myers Squibb Company | Bristol-Myers Squibb Company.
20001529—Sanmina Corporation | Alcatel | Alcatel USA Sourcing, L.P.
20001532—Robert A. Daly | News Corporation Limited (The) | Fox Baseball Holdings, Inc.
20001533—The Great Universal Stores P.L.C | Mr. Timothy J. Keane | Retail Target Marketing Systems, Inc.
20001540—The St. Paul Companies, Inc | MMI Companies, Inc | MMI Companies, Inc.
20001549—Flextronics Intermational Ltd | Cabletron Systems, Inc | Cabletron Systems, Inc.
20001564—Vignette Corporation | DataSage, Inc. | DataSage, Inc.
20001566—Aliant Inc | N.V. Koninklijke Nederlandsche Petroleum Maatschappij | Shell Offshore Service Company
20001567—Robert Wood Johnson IV | The Estate of Leon Hess | The New York Jets Football Club, Inc.
20001568—Edward Wanandi | Frank Katz | Strick Corporation.
20001570—Prudential plc | Susan Zolla | Packaging Advantage Corp.
20001572—Avant! Corporation | Analogy, Inc | Analogy, Inc.
20001573—Lady Lucky Gaming Corporation | Andrew H. Tompkins | Gemini, Inc. International Marco Polo's Services, Inc.
20001574—USFreightways Corporation | Transport Corporation of America, Inc | Transport Corporation of America, Inc.
20001577—Hoganas A.B | ChemFirst Inc | FRM Industries, Inc.
20001580—Fabri-Steel Products Incorporated | TRW Inc | Nelson Stud Welding Division of TRW.
20001584—Clear Channel Communications, Inc | Faith Broadcasting, L.P | Faith Broadcasting, L.P.
20001585—Prudential Insurance Company of America (The) | St. Paul Companies, Inc. (The) | THI Holdings (Delaware), Inc.
20001588—Haworth International, Ltd | LaCasse Inc | LeCasse Inc.
20001594—Loews Corporation | Gowin Holdings International Limited | Gowin Holdings International Limited.
20001595—LaSalle Re Holdings Limited | Trenwick Group Inc | Trenwick Group Inc.
20001596—DLJ Merchant Banking Partner II, L.P | James D. & Margaret M. Brady-Nallo | Precision Offset Printing Company, Inc. Precision Ollan Seal, Inc.
20001600—The Western and Southern Life Insurance Company | ARM Financial Group, Inc | Integrity Life Insurance Company.
20001602—The Shelly Company | Ira L. Morris | Waco Oil & Gas., Inc.
20001606—Guidant Corporation | Impulse Dynamics, LLC | Impulse Dynamics N.V.
20001607—First Reserve Fund VIll, L.P | Preferred Industries, Inc | Preferred Industries, Inc.
20001609—Gerald W. Schwartz | Jannock Limited | Jannock Limited.
20001612—AutoNation, Inc | Dennis E. Breen | Horizon Chevrolet, Inc.
20001615—GPU, Inc | MYR Group Inc | MYR Group Inc.
20001617—Paul G. Desmarais | Allmerica Financial Corporation | First Allmerica Financial Life Insurance Company.
20001618—Flextronics International, Ltd | Palo Alto Products International (Pte.) Ltd. (“PAPI”) | Palo Alto Products International (Pte.) Ltd. (“PAPI”).
20001622—Mail-Well, Inc | American Business Products, Inc | American Business Products, Inc.
20001623—Golden State Bancopr Inc | Downey Financial Corp | Downey Finance Corp.
20001626—Isle of Capri Casinos, Inc | BRDC, Inc | BRDC, Inc.
20001627—Robert S. Goldstein and Susan J. Goldstein (husband & wife) | Isle of Capri Casinos, Inc | Isle of Capri Casinos, Inc.
20001628—Bernard Goldstein and Irene S. Goldstein (husband & wife) | Isle of Capri Casinos, Inc | Isle of Capri Casinos, Inc.
20001634—Sigma Partners III, L.P | Vignette Corporation | Vignette Corporation
20001638—John Steven Late | AutoNation, Inc | Jack Sherman Chevrolet
20001640—Komatsu Ltd | Road Machinery Company | Road Machinery Company
20001651—Richard G Haworth | SMED International, Inc | SMED International, Inc.
20001652—CMGI, Inc | yesmail.com, inc | yesmail.com, inc.
20001656—Jerry Herbst | Alexander W. Rangos | Car Spa, Inc.
20001659—Charterhouse Equity Partners III, L.P | Whitehall Associates, L.P | reSOURCE PARTNER, Inc.
20001664—Baker Communications Fund, L.P | Sequoia Software Corporation | Sequoia Software Corporation
20001670—Captec Net Lease Realty, Inc | Patrick L. Beach | Captec Financial Group, Inc.
20001672—Industrial Services Group, Inc | Dale Smith | Palestine Concrete Tile Company
20001673—Industrial Services Group, Inc | Danny Smith | Palestine Concrete Tile Company
20001674—Centre Capital Investors III, L.P | Michael Lee Malamut | Autoland, Inc.
20001690—Bracknell Corporation | Michael L. Morrissey | Sylvan Industrial Piping Of N.J., Inc.
|  | Sylvan Industrial Piping of Tennessee, Inc.
|  | Sylvan Industrial Piping, Inc.
FEB. 9, 2000
20001179—WHX Corporation | Bethlehem Steel Corporation | Bethlehem Steel Corporation.
20001402—CBS Corporation | SportsLine.com, Inc | SportLine.com, Inc.
20001466—Smiths Industries plc | SIHI/EMC Investors LLC | EMC Technology LLC
20001555—American Tower Corporation | James A.R. Veeder | U.S. Electrodynamics, Inc.
20001582—The Edward W. Scripps Trust | Freedom Communications, Inc | Florida Freedom Newspapers, Inc.
20001597—CPL Long Term Care Real Estate Investment Trust | Renaissance Healthcare Corporation | Oakridge Nursing Home, Inc.
|  | Renaissance-Chapel Hill, Inc.
|  | Renaissance-Fox Chase, Inc.
|  | Renaissance-Hamilton Plaza, Inc.
|  | Renaissance-Iliff, Inc.
|  | Renaissance-Park Manor, Inc.
|  | Renaissance-Valley View, Inc.
20001605—Estate of Charles A. Sammons | Estate of Charles C. Carson | E.R. Craven Company.
20001613—BG Distribution Partners, Ltd | Terk Distributing Company, Inc | Terk Distributing Company, Inc.
20001616—Bank of America Corporation | VeloCom Inc | VeloCom Inc.
20001636—General Electric Company | Macklanburg-Duncan Co | Macklanburg-Duncan Co.
20001642—Baxter International Inc | XOMA Ltd | XOMA Ireland Limited.
20001687—Telefonos de Mexico, S.A. de C.V | Grupo Carso, S.A.. de C.V | TPC Acquisition Corp.
FEB. 10, 2000
20001556—KKR 1996 Fund L.P | Intermedia Communications Inc | Intermedia Communications Inc.
20001657—Berkshire Hathaway, Inc | CORT Business Services Corporation | CORT Business Services Corporation.
FEB. 11, 2000
20001449—Gerald W. Schwartz | International Business Machines Corporation | International Business Machines Corporation.
20001483—Compaq Computer Corporation | InaCom Corp | InaCom Corp.
|  | InaCom International, Inc.
|  | Sysorex Corporation.
|  | Vanstar Corporation.
20001579—Atlantic Equity Partners International II, L.P | Trust u/w/o Edward S. Litchfield | Poly-Seal Corporation.
20001599—Apple Computer, Inc | Earthlink Network, Inc | Earthlink Network, Inc.

For Further Information Contact: Sandra M. Peay or Parcellena P. Fielding, Contact Representatives, Federal Trade Commission, Premerger Notification Office, Bureau of Competition, Room 303, Washington, DC 20580, (202) 326-3100.

By direction of the Commission.
Donald S. Clark,
Secretary.

[FR Doc. 00-7971 Filed 3-30-00; 8:45 am]

BILLING CODE 6750-01-M